DEPARTMENT OF LABOR

Employment and Training Administration

[TA-W-55,754A, TA-W-55,754B, TA-W-55,754C, TA-W-55,754D]

Dan River, Inc., 1325 Avenue of the Americas, New York, NY; Dan River, Inc., Boonsville, MI; Dan River, Inc., High Point, NC; Dan River, Inc., Walnut Creek, CA; Amended Certification Regarding Eligibility to Apply for Worker Adjustment Assistance and Alternative Trade Adjustment Assistance

In accordance with Section 223 of the Trade Act of 1974 (19 U.S.C. 2273) the Department of Labor issued a Certification of Eligibility to Apply for Worker Adjustment Assistance and Alternative Trade Adjustment Assistance on November 5, 2004, applicable to Dan River, Inc., 1325 Avenue of the Americas, New York, New York. The notice was published in the Federal Register on December 9, 2004 (69 FR 71429).

At the request of a company official, the Department reviewed the certification for workers of the subject firm. New information provided by the firm shows that some employees separated from employment with Dan River, Inc., 1325 Avenue of the Americas, New York, New York, were located in Boonsville, Mississippi, High Point, North Carolina and Walnut Creek, California. These workers provided sales and marketing support services for the production of home furnishing textiles produced by Dan River, Inc.

Based on these findings, the Department is amending this certification to include employees of the 1325 Avenue of the Americas, New York, New York location of Dan River, Inc., located in Boonsville, Mississippi, High Point, North Carolina, and Walnut Creek, California.

The intent of the Department's certification is to include all workers of Dan River, Inc. who were adversely affected by a shift in production to China and Mexico.

The amended notice applicable to TA-W-55,754 is hereby issued as follows:

All workers of Dan River, Inc., 1325 Avenue of the Americas, New York, New York (TA-W-55,754A), including employees of Dan River, Inc., 1325 Avenue of The Americas, New York, New York, located in Boonsville, Mississippi (TA-W-55,754B), Dan River, Inc., High Point, North Carolina (TA-W-55,754C), and Dan River, Inc., Walnut Creek, California (TA-W-55,754D), who became totally or partially separated from employment on or after October 8, 2003, through November 5, 2006, are eligible to apply for adjustment assistance under Section 223 of the Trade Act of 1974, and are also eligible to apply for alternative trade adjustment assistance under Section 246 of the Trade Act of 1974.

Signed at Washington, DC, this 16th day of February 2005.
Linda G. Poole,
Certifying Officer, Division of Trade Adjustment Assistance.

[FR Doc. E5-989 Filed 3-8-05; 8:45 am]

BILLING CODE 4510-30-P